OFFICE OF PERSONNEL MANAGEMENT

Submission for Review: Ombudsman Request for Assistance Information Collection, 3206-NEW

AGENCY: U.S. Office of Personnel Management.

ACTION: 60-Day Notice and request for comments.

SUMMARY: The Executive Secretariat and Ombudsman, Office of Personnel Management (OPM) offers the general public and other federal agencies the opportunity to comment on a new information collection request (ICR) 3206-NEW, Ombudsman Request for Assistance. As required by the Paperwork Reduction Act of 1995 (Pub. L. 104-13, 44 U.S.C. chapter 35), as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 12, 2010. This process is conducted in accordance with 5 CFR 1320.1.

ADDRESS: Interested persons are invited to submit written comments on the proposed information collection to U.S. Office of Personnel Management, 1900 E Street, NW., Washington, DC 20415 Attention: Barbara Malebranche, Ombudsman or sent via electronic mail to Barbara.malebranche@opm.gov.

FOR FURTHER INFORMATION CONTACT: A copy of this ICR, with applicable supporting documentation, may be obtained by contacting U.S. Office of Personnel Management, 1900 E Street, NW., Washington, DC 20415 Attention: Barbara Malebranche, Ombudsman, or sent via electronic mail to Barbara.malebranche@opm.gov.

SUPPLEMENTARY INFORMATION: The Office of Personnel Management (OPM) established the Executive Secretariat and Ombudsman January 4, 2010. OPM established the Ombudsman to provide a neutral, independent and confidential resource to review, identify, facilitate and timely resolve individual claims, concerns or complaints by OPM customers and employees. In order to provide the best service to OPM's customers, one form is required and two forms are optional. The mandatory form, Privacy Release, enables representatives of the Ombudsman to obtain any information requested, examine and/or copy any records related to a request for assistance to identify, facilitate and timely resolve individuals' claims, concerns or complaints by OPM customers and employees. This allows OPM's representatives to properly perform their role and not violate customer privacy without the proper authorization. The second form, Third Party Authorization, allows customers of the Ombudsman to designate someone in addition to themselves, or other than themselves, to give and receive information about their request for assistance. The Third Party Authorization will not be used in every request for assistance. The third form, Request for Assistance, is web-enabled and provides customers a useful tool to provide OPM information it needs to expediently gather the facts and resolve the concern brought before the Ombudsman.

Analysis

Agency: Executive Secretariat and Ombudsman, Office of Personnel Management.

Title: Ombudsman Request for Assistance.

OMB Number: 3206-NEW.

Frequency: Annually.

Affected Public: Federal Employees, Retired Federal Employees, Individuals and Households.

Number of Respondents: 4,000.

Estimated Time Per Respondent: Privacy Release form will take approximately 5 minutes; the Third Party Authorization form will take approximately 10 minutes and the web-enabled Request for Assistance will take approximately 15 minutes to complete. If all three forms are used it is estimated to take an average of 30 minutes to complete.

Total Burden Hours: 2,000 hours

U.S. Office of Personnel Management.
John Berry,
Director.

[FR Doc. 2010-19705 Filed 8-9-10; 8:45 am]

BILLING CODE 6325-39-P